NATIONAL SCIENCE FOUNDATION

National Science Board and Its Subdivisions; Sunshine Act Meeting

DATE AND TIME: May 25-26, 2005.

May 25, 2005—7 a.m.-5 p.m.

Sessions

7 a.m.-9:30 a.m.—Open

8 a.m.-8:15 a.m.—Closed

8:15 a.m.-9 a.m.—Open

9 a.m.-9:30 a.m.—Open

9:30 a.m.-10:30 a.m.—Open

10:30 a.m.-11:10 a.m.—Open

11:10 a.m.-11:45 a.m.—Closed

12 noon-12:15 p.m.—Open

12:15 p.m.-12:30 p.m.—Closed

12:30 p.m.-3:15 p.m.—Open

3:15 p.m.-5 p.m.—Open

May 26, 2005—7:45 a.m.-3:15 p.m.

Sessions

7 a.m.-8:30 a.m.—Closed

8:30 a.m.-9:15 a.m.—Executive Closed

9:15 a.m.-11:15 a.m.—Closed

11:15 a.m.-11:45 a.m.—Open

12 noon-12:30 p.m.—Executive Closed

12:30 p.m.-1 p.m.—Closed

1 p.m.-3:30 p.m.—Open

Place: National Science Foundation, 4201 Wilson Blvd., Room 1295 and 1235, Arlington, VA 22230.

Public Meeting Attendance: All visitors must report to the NSF's visitor's desk at the 9th and N. Stuart Streets entrance to receive a visitor's badge.

FOR FURTHER INFORMATION CONTACT: Please refer to the National Science Board Web site (http://www.nsf.gov/nsb) for updated schedule. NSB Office: (703) 292-7000.

Status: Part of this meeting will be closed to the public. Part of this meeting will be open to the public.

Matters to be Considered:

Wednesday, May 25, 2005

Open:

Education & Human Resources Subcommittee on S&E Indicators (7 a.m.-9:30 a.m.) Room 1295

• Chair's Remarks and Approval of Minutes

• Discussion of Industry, Technology, and the Global Marketplace Chapter

• Discussion of Higher Education Chapter

• Discussion of Academic R&D Chapter

• Discussion of S&E Labor Force Chapter

• Discussion of R&D Funds and Technology Chapter

Committee on Programs & Plans Subcommittee on Polar Issues (8:15 a.m.-9 a.m.) Room 1235

• Chair's Remarks and Approval of Minutes

• OPP Director's Report

• OPP Advisory Committee Study of USAP Resupply Options

• Arctic Trip Report of NSB Delegation

Task Group on Transformative Research [TR] (9 a.m.-9:30 a.m.) Room 1235

• Chair's Remarks and Approval of Minutes

• Discussion of Upcoming Workshop

Joint Session: Committee on Strategy and Budget and Committee on Programs and Plans (9:30 a.m.-10:30 a.m.) Room 1235

• Centers and the NSF Portfolio

• Funding Rates, Award Size and Duration

Committee on Strategy and Budget (10:30 a.m.-11:30 a.m.)

• Chair's Remarks and Approval of Minutes

• Discussion of Committee Input to Vision Task Force

• Long Range Planning Book Overview

Executive Committee (12 noon-12:15 p.m.) Room 1235

• Approval of Minutes

• Updates or New Business from Committee Members

• Transmittal Letter: Proposed Awards to NSB Members

• Annual Report of Executive Committee

Committee on Programs & Plans (12:30 p.m.-3:15 p.m.) Room 1235

• Approval of Minutes

• Vision Task Force

• New ad hoc Task Group to update the NSB Report on International Science

• Status Reports

○ Long-lived Digital Data Collections

○ Transformative Research Task Force

○ Subcommittee on Polar Issues

• Environment Status Report

• Process for Sending Information & Actions to CPP & NSB

• NSF Strategy for High Performance Computing

• Major Research Facilities:

○ Final Approval of “Setting Priorities for Large Research Facility Projects Supported by the NSF”

○ Status of Facility Plan & Guide

○ Overview of Process for CPP/NSB Re-examination of Priority Order for New Start MREFC Projects

Committee on Education & Human Resources (3:15 p.m.-5 p.m.) (Room 1235)

• Approval of Minutes

• NSF Staff Presentations

○ NSF/EHR Directorate Activities Update

○ NSF Integration of Research Education

• 21st Century Workforce

• NSB items

• NSB/EHR Committee's Contribution to Board's Vision for NSF

• Response to Congressman Ehlers

• Subcommittee on Science and Engineering Indicators

• Update on Engineering Education Workshop

Closed

Committee on Programs & Plans Subcommittee on Polar Issues (8 a.m.-8:15 a.m.) Room 1235

• Polar icebreakers—future budget issues

Committee on Strategy and Budget (11:10 a.m. -11:45 a.m.) Room 1235

• Preliminary Discussion of FY 2007 Budget

Executive Committee (12:15 p.m.-12:30 p.m.) Room 1235

• Director's Items: Personnel Matters and Future Budgets

Thursday, May 26, 2005

Open

Committee on Audit & Oversight (9:15 a.m.-11:15 a.m.) Room 1235

• Approval of Minutes

• Management Response to OIG Semiannual Report

• Discussion of NSF Vision Document: NSB Roles and Responsibilities

• Discussion of Draft Outline of NSF Merit Review System Review

• The Sarbanes Oxley Act and Implications for the NSF

• CFO Update on Plan to Address Reportable Conditions of FY 2004 Audit

Closed Session

Committee on Programs & Plans (7 a.m.-8:30 a.m.) Room 1235

• Update on RSVP

• NSB Information Item: Plan for extending LIGO

• NSB Information Item: Renewal of Cooperative Agreement between NSF and IRIS

• Reexamination of Priority Order for New Start MREFC Projects

Committee on Audit & Oversight (11:15 a.m.-11:45 a.m.) Room 1235

• Pending Investigations

Executive Closed

Committee on Programs & Plans (8:30 a.m.-9:15 a.m.) Room 1235

• Re-examination of Priority Order for New Start MREFC Projects

Plenary Session of the Board (12 noon-3:30 p.m.)

Executive Closed Plenary Session of the Board (12 noon-12:30 p.m.) Room 1235

• Approval of Executive Closed Minutes

• Executive Committee Elections

• Board Member Proposals

Closed Plenary Session of the Board (1 p.m.-1:30 p.m.) Room 1235

• Approval of Closed Session Minutes

• Closed Committee Reports

Open Plenary Session of the Board (1 p.m.-3:30 p.m.) Room 1235

• Approval of Open Session Minutes

• Resolution to Close August 2005 Meeting

• NSB Chairman's Report

○ Approval of 2006 Board Meeting Calendar

• NSF Director's Report

• Committee Reports

○ 2004 Annual Report of Executive Committee

• Overview of Millennium Ecosystem Assessment

• Presentations by 2005 Alan T. Waterman and NSB Public Service Awardees

Michael P. Crosby,
Executive Officer, NSB.

[FR Doc. 05-9727 Filed 5-11-05; 1:47 pm]

BILLING CODE 7555-01-M